DEPARTMENT OF JUSTICE

Office of Juvenile Justice and Delinquency Prevention

[OJP (OJJDP)-1293]

Program Announcement for Improving Juvenile Sanctioning: An Intensive Training and Technical Assistance Delivery Program

AGENCY: Office of Juvenile Justice and Delinquency Prevention, Office of Justice Programs, Justice.

ACTION: Notice of solicitation.

SUMMARY: The Office of Juvenile Justice and Delinquency Prevention (OJJDP) is requesting applications for the Improving Juvenile Sanctioning program in order to strengthen and enhance juvenile accountability-based sanctions programs. OJJDP will select one organization to provide intensive training and technical assistance to support at least 10 selected jurisdictions in developing or enhancing a continuum of community-based graduated sanctions.

DATES: Applications must be received by 5 p.m. ET on November 6, 2000.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The Application kit is also available at OJJDP's Web site at www.ojjdp.ncjrs.org/grants/about.html#kit. (See “Format” in this program announcement for instructions on application standards.)

FOR FURTHER INFORMATION CONTACT: Dennis D. Barron, Program Manager, Training and Technical Assistance Division, Office of Juvenile Justice and Delinquency Prevention, 202-616-2942. [This is not a toll-free number.]

Purpose

The purpose of this program is to improve the capacity of the juvenile justice system by providing intensive training and technical assistance to strengthen and enhance existing juvenile accountability-based sanctioning programs and to support development of new ones, consistent with effective design elements, within the context of community-based programs that support competency development in youth.

Background

The Office of Juvenile Justice and Delinquency Prevention has been delegated authority by the Attorney General for administering the Juvenile Accountability Incentive Block Grants (JAIBG) program, as initially authorized by Public Law 105-119, November 26, 1997. Congress appropriated $250 million for JAIBG in each of FY's 1998 and FY 1999 and $237,994,500 for FY 2000. Funding is available to States and units of local government to address 12 specific program areas that contribute to holding juveniles accountable in the juvenile justice system. To support these activities, OJJDP provides technical assistance to States and units of local government in the designated program areas. This solicitation is offered pursuant to program purpose area 2, “Developing and Implementing Accountability Based Sanctions for Juvenile Offenders,” and purpose area 11, “Establishing and Maintaining Accountability-Based Programs for Law Enforcement Referrals.”

Juvenile justice officials have long recognized that there must be immediate and effective intervention when delinquent behavior occurs to successfully prevent first-time or minor delinquent offenders from becoming serious, violent, or chronic offenders and progressively moving deeper into the juvenile justice system. At the same time, juvenile justice practitioners need to be able to adequately and accurately assess the likelihood that a youth will commit additional offenses and provide direction for meeting the treatment needs of offenders in order to prevent or deter further delinquency.

The lack of consistent intervention with juvenile offenders following their initial contact with the police or other authority has long been recognized as perhaps the largest single gap in services for troubled youth (Wilson and Howell, 1993). Juveniles who incur a quick, appropriate, and meaningful consequence for delinquent behavior are far less likely to repeat their behavior and less likely to progress further into the juvenile justice system (Wilson and Howell, 1993). This early intervention in response to delinquent behavior must be flexible enough to respond to the varied and multiple needs of juvenile offenders, their families, and the community.

Currently, there is a substantial need in the juvenile justice system to provide alternative dispositional options that hold the juvenile offender accountable, in a positive and constructive manner, for his or her delinquent behavior. A model graduated sanctioning system, which provides treatment and rehabilitation in combination with reasonable, fair, humane, and appropriate sanctions and which offers a continuum of care consisting of program options to meet the needs of each juvenile, will help the juvenile justice system to meet its statutory purposes. Such a continuum includes immediate and intermediate sanctions within the community for first time offenders (Wilson and Howell, 1993).

The term “juvenile sanctioning” is used to refer to specific sanctioning options that deal with the level of supervision exerted over juvenile offenders (e.g., fines; community service work; electronic monitoring; probation; intensive supervision; community-based programs, both residential and nonresidential; and secure incarceration). These sanctions may also incorporate a range of treatment services that address the juvenile's individual needs (e.g., drug treatment, anger management, and so forth). Sanctioning levels should be driven primarily by a risk assessment, while treatment programs should be determined through a needs assessment. Together, these two components, risk and needs assessments, should be used to form the overall concept of a graduated range of dispositional options, guided by a specific policy framework.

Use of a validated risk assessment instrument, along with a needs assessment tool, is key to establishing a graduated sanctions system. A combined risk and needs instrument not only provides levels of security based on information establishing the risk of recidivism but also identifies the treatment needs of delinquent youth. Failure to meet these needs often contributes to further delinquency. It is, therefore, vitally important that risk and needs assessment instruments be reliable, accurate, useful, and actually meet the needs of both the offender and the sanctioning authority. In order to enhance its accuracy, the risk assessment instrument needs to be validated in each community in which it will be used. In addition, testing and refinement of needs assessment instruments must be conducted by qualified professionals in fields such as counseling, mental health, and substance abuse.

A community assessment, which recognizes both the services available to assist in sanctioning and rehabilitation of youthful offenders and the gaps in such services, is also an important element in developing a successful juvenile accountability-based sanctioning program. The community must recognize both its strengths and weaknesses for dealing with delinquent juveniles and should identify through its community assessment what services are available and how other needed services can be either created or obtained.

Creating sanctioning programs requires identifying both a range of sanctioning options and a coherent decisionmaking system to guide their use. In addition, in order to be successful, community-based sanctions must be developed with the participation of representatives from all members of the community, including victims of juvenile crime.

This juvenile sanctioning initiative has two core elements: (1) To strengthen the decisionmaking system through development and validation of risk and needs assessment instruments and (2) to strengthen the front end of the graduated sanctions continuum by implementing community-based sanctions and treatment programs. On a broader level, this initiative will provide communities with a practical guide to developing and implementing a model sanctioning system that includes structured decisionmaking and proven effective programs.

By improving juvenile sanctioning options and decisionmaking systems, law enforcement officers, juvenile court personnel, and social workers will be offered an avenue for referrals that provide prompt and early intervention and appropriate sanctions for juveniles who have been arrested or charged with offenses that community agencies believe can be safely managed and monitored within the framework of community-based programs. Policies that combine a sound decisionmaking system with the use of effective sanctioning options will form the basis of a model community-based sanctioning system. In addition, by using proven treatment programs along with appropriate sanctions, a community should be able to provide safe, secure, and appropriate alternatives to the secure placement of juveniles that are effective in reducing future offending behavior.

This program is intended to assist selected communities to either enhance existing community-based programs or create new ones designed to achieve a comprehensive system of juvenile accountability-based sanctioning. Communities eligible for the training and technical assistance are ones that have conducted a comprehensive community assessment that demonstrates an understanding of the juvenile offender population, includes an analysis of the decisionmaking system, and examines the sanctioning and program options the community has to offer.

Goal

The primary goal of this program is to create or improve juvenile accountability-based sanctioning programs at the front end of the continuum, while enhancing the competencies and skills of youth, in order to strengthen the juvenile justice system's capability to respond appropriately to delinquent behavior.

Objectives

• To develop both a comprehensive risk assessment and a needs assessment tool that can be used by law enforcement officers, probation officers, assessment center staff, judges, and other juvenile justice professionals to determine the likelihood that a youth will reoffend and to identify appropriate services needed to prevent continued delinquency.

• To reduce the number of juveniles being referred for prosecution within the juvenile justice system for minor offenses by increasing the rate of diversion of minor offenses from the system and decreasing the use of detention.

• To reduce the length of stay in secure detention for juveniles referred for minor offenses by providing community-based detention alternatives and sanctioning options.

• To increase the number of effective dispositional options available to law enforcement officers for referrals to community organizations and agencies having responsibility for treating or dealing with delinquent behavior.

• To increase and improve the sanctioning options available to juvenile courts by facilitating the development of effective and innovative community-based sanctioning options and treatment.

• To engage community institutions, organizations, and agencies in the development and enhancement of mediating structures that hold juveniles accountable for their behavior, while engaging victims—when appropriate—in the process and enhancing youth competency.

• To provide technical assistance to support effective implementation of the risk and needs assessment processes in jurisdictions committed to using a system of graduated sanctions.

• To identify and support replication of programs that support development of social competency skills in youth as elements of the graduated sanctions program.

Program Strategy

OJJDP will competitively select one organization to provide intensive training and technical assistance to support at least 10 selected jurisdictions interested in developing or enhancing a continuum of community-based graduated sanctions. The primary target population for this program is youthful offenders who could be referred by law enforcement, schools, or juvenile courts to community-managed alternatives to detention and secure confinement. The scope of work for program sites will also include the selection, adaptation and testing of a risk and needs assessment instrument, or the validation of an existing instrument, in order to support objective implementation of graduated sanctions programs in the selected communities. The instruments will be supported by development of protocols for their validation in each jurisdiction where they will be used. This program will also support development of Juvenile Justice System Resource Guidelines, which will offer guidance to juvenile courts and other juvenile justice agencies on how to organize, implement, and manage a juvenile sanctioning program.

This program will focus on delivering intensive training and technical assistance for both structured decisionmaking (risk and needs assessments) and developing and implementing graduated sanctions options in each of the selected communities. Each program site will demonstrate how to implement the elements of a comprehensive strategy with respect to structured decisionmaking with a full range of appropriate sanctions and programs.

Targeted communities must support accountability-based sanctions that provide for a range of services and programs to assist youthful offenders in developing improved skills in social, educational, and economic competencies. The major beneficiaries of the program will be youthful offenders, victims of juvenile crime, judges, prosecutors, probation officers, education officials, law enforcement officers, and workers in youth service agencies.

This program will be implemented in three phases. Phase I requires the development of materials that will inform and structure implementation of the initiative, selection of the intensive sites, and selection and adaptation of the risk and needs assessments instruments. Phase II requires testing and refining materials developed during the first year through the initiation of delivery of intensive technical assistance to the 10 selected sites, delivery of training on graduated sanctions options to the 10 sites and to selected members of the juvenile justice community (e.g., legislators, judges, prosecutors, defense attorneys, community mediation agency personnel, State juvenile justice specialist, State advisory group members), and revision of materials as a result of testing. Phase III requires refining the structure of graduated sanctions developed in the second year in the intensive sites, facilitating the transfer of knowledge from the intensive sites to support the development of graduated sanctions programs in nonintensive sites, and delivering training and technical assistance to other jurisdictions.

A single award will be made, under a cooperative agreement, with funding in annual increments over a 5-year project period. The first year of funding will be for up to $1 million.

Successful applicants must be able to develop a process for competitively identifying and selecting communities, in collaboration with OJJDP, that either have or will develop effective juvenile accountability-based sanctioning programs. The grantee will conduct regional workshops for interested communities to explain the selection criteria for choosing the intensive sites, review program goals and expectations, and offer assistance to those jurisdictions that seek to become juvenile sanctioning program sites. The grantee will also develop training and technical assistance protocols for creating or enhancing a continuum of graduated sanctions within the community, along with the selection or development and validation of risk and needs assessment instruments. It is anticipated that the grantee will develop partnerships with other agencies that can provide content expertise on selecting, adapting, validating, and implementing risk and needs assessment instruments and resource guidelines. It is anticipated that the latter will have a particular emphasis on juvenile courts and will build on work already done by the National Center for Juvenile Justice, the research and technical assistance arm of the National Council of Juvenile and Family Court Judges.

In the first year, applicants should budget for four regional workshops that will explain the concept, design, development, and implementation of community-based graduated juvenile sanctioning programs to interested jurisdictions. These workshops will form the genesis of the communities' applications for intensive training and technical assistance. By the end of the first year, 10 or more jurisdictions will be identified and selected by the grantee, in collaboration with OJJDP, as having the elements essential to developing and enhancing a comprehensive graduated sanctions continuum.

At the same time, the grantee will begin the process of selecting, adapting, and testing risk and needs assessment instruments and developing and testing a planning manual on graduated sanctions, which will include a chapter on risk and needs assessment instruments. Sufficient funds should also be allocated to support the development of Juvenile Justice System Resource Guidelines.

The major requirements for this application are a detailed description of how communities will be selected for the program, the overall training and technical assistance program for improving juvenile accountability-based sanctioning within the selected communities and the way in which the total program will be implemented, an explanation of how the program goals and objectives will be achieved, a timetable for program implementation, and the method proposed for addressing the need for training and technical assistance in support of the juvenile sanctioning program. The application should state specifically how the following will be accomplished:

• Development of guidelines and/or protocols for identifying successful juvenile accountability-based sanctioning programs.

• Identification and selection of sites where enhancement or creation of a juvenile accountability-based sanctioning program would aid the juvenile justice system.

• Identification of successful risk and needs assessment core data requirements, along with the development, selection, and adaptation of model risk and needs assessment instruments, a protocol for their testing and/or validation, and a plan for their implementation within a juvenile sanctioning program.

• Development of a protocol for identification and replication of support services that develop youth competencies, in association with sanctioning options.

• Involvement of victims in the design of the accountability-based sanctioning program, including the use of community mediation boards.

• Involvement of community agencies, organizations, and residents in planning the sanctioning program.

• Development of guidelines for documentation of local programs.

• Development of Juvenile Justice System Resource Guidelines.

• Development of a training curriculum on implementing and managing a graduated sanctions program.

Deliverables

In addition to those identified in the strategy and content of the training and technical assistance design, the following list identifies other specific deliverables during the 5-year period:

Year 1

• Four regional workshops that explain the concept, design, development, and implementation of a community-based graduated juvenile sanctioning program to prospective jurisdictions that want to either create or enhance their juvenile sanctioning options.

• Criteria for the selection of 10 sites for intensive training and technical assistance to either enhance existing juvenile accountability-based sanctioning programs or create new programs.

• A manual that delineates the design specifications for those specific program elements that contribute to a successful juvenile accountability-based sanctioning program, along with instructions for implementation.

• Model risk and needs assessment instruments, with a protocol for validation and/or testing on a community-by-community basis.

• A table of contents for the Juvenile Justice System Resource Guidelines, a detailed plan for how the Guidelines will be developed, and a list of key persons who will participate in their development.

• Development and distribution of three technical assistance bulletins, articles, fact sheets, or briefs about juvenile accountability-based sanctioning programs.

• A marketing plan for the juvenile sanctioning program.

• A protocol for delivery of intensive training and technical assistance to selected sites.

Year 2

• Testing and refinement of the technical assistance protocol with the targeted sites.

• A monograph that identifies and categorizes the range of juvenile accountability-based sanctioning programs in use within the juvenile justice system, identifying those programs that are most effective and should be replicated.

• Delivery of intensive training and technical assistance to the selected sites for enhancement of existing juvenile accountability-based sanctioning programs or for the creation of new juvenile sanctioning programs.

• A first draft of the Juvenile Justice System Resource Guidelines, along with evidence of testing and review.

• Training delivered at a minimum of four events, which may include presentations at local, regional, State, or national training conferences, about the juvenile sanctioning program.

• A summary report on training evaluations by participants to improve future delivery of training and technical assistance.

Year 3

• A final draft of the Juvenile Justice System Resource Guidelines, with revisions, publication plan, and dissemination plan for the guidelines.

• Assessments of sites' progress in implementing or enhancing their juvenile sanctioning programs along with site-specific plans for corrective action.

• Additional deliverables will be identified based on the needs of the sites.

Years 4 and 5

• Selection of additional sites for implementation of the juvenile sanctioning program.

• Additional deliverables to be determined as sites move forward in implementing the program and as other national needs become apparent.

Applicants are encouraged to be realistic in costing out the deliverables and in outlining the implementation schedule. Applicants are also encouraged to be innovative in their ideas because OJJDP is open to consideration of alternative approaches to the delivery of training and technical assistance as long as the objectives and overall goals of the program are achieved at a high level, consistent with the guiding principles listed below.

Guiding Principles

Technical assistance and training will be developed consistent with the following principles:

Design and deliver the training and technical assistance in a manner that supports empowerment of local communities to implement programs.

• Be proactive and comprehensive.

• Be user-friendly and consumer driven.

• Use uniform protocols for needs assessment, delivery of training and technical assistance, evaluation, tracking, and followup.

• Base curriculum development on adult learning theory and deliver the curriculum within the context of an interactive structure.

• Coordinate the training and technical assistance to effectively and efficiently use the expertise of a range of grantees, including the national JAIBG training and technical assistance coordinator, currently Development Services Group, Inc., of Bethesda, Maryland.

• Be sensitive to diverse cultural and ethnic needs.

• Incorporate sound youth development and juvenile justice principles.

Eligibility Requirements

OJJDP invites applications from public and private agencies, organizations, institutions, or individuals. Private, for-profit organizations must agree to waive any profit or fee.

Selection Criteria

Applications will be rated by a peer review panel according to the criteria outlined below. A site visit may be conducted to confirm information provided in the application.

Need(s) To Be Addressed (15 points)

Applicants must clearly demonstrate an understanding of the need(s) to be addressed by the program and the issues relevant to current juvenile accountability-based sanctioning programs and practices. Specific attention should be given to demonstrating an understanding of the problems associated with risk and needs assessments.

Goals and Objectives (10 points)

Applicants must provide succinct statements that demonstrate an understanding of the goals and objectives associated with the program. Training and technical assistance related to the objectives must be clearly stated and measurable.

Project Design (30 points)

Applicants must present a project design that is specific and constitutes an effective approach to meeting the goals and objectives of this program. The design must include a detailed workplan with timelines that link the training and technical assistance tasks to each of the program's stated objectives. Applicants must demonstrate how these activities can be expected to achieve the program's overall goal. The design must provide protocols for assessment of technical assistance and training needs and protocols that will be used in the delivery of technical assistance. It must also describe the process and structure that will be used for curriculum development and demonstrate how adult learning theory will be employed in its design. Specificity should be provided with respect to how the problems associated with development of risk and needs assessment instruments will be overcome and what approach will be used to inventory the range of juvenile accountability-based sanctioning programs. Specificity should also be provided regarding the applicant's understanding of the intended use of the Juvenile Justice System Resource Guidelines and the potential approaches to their development.

Competitiveness will be enhanced by clearly discussing how training and technical assistance will be delivered in each of the identified juvenile sanctioning program areas in the program strategy outlined above.

Project Management (25 points)

The application must include a discussion of how the grantee will coordinate and manage this program to achieve the training and technical assistance objectives. Applicant's management structure and staffing must be adequate and appropriate for the successful implementation of the project and must identify a program manager experienced in successfully delivering training and technical assistance. Applicants must describe an organizational framework, managerial structure, and staffing approach that is capable of effectively executing the juvenile sanctioning initiative. Applicants need to have a pool of consultants available with high levels of expertise in juvenile sanctioning programs and must be able to identify responsible individuals, their time commitment, and assignment of major tasks under this project. A key element to be considered in identifying consultants is their organizational experience in designing and delivering training and technical assistance on a national level. Key staff should have significant experience with the delivery of training and technical assistance and some combination of experience with community-based youth accountability-oriented programs, e.g., restitution, probation, restorative justice, victims services.

Experience in managing juvenile justice programs is not essential to successful management of this project; competitiveness will be enhanced, however, by clearly demonstrating the ability to attract seasoned experts with a knowledge of current juvenile justice accountability-based sanctioning programs, the ability to develop program materials, the capability for printing materials in-house, and a management structure that supports the deployment of consultants and delivery of services. The development of partnerships with other agencies and organizations having expertise that expands the knowledge and experience base of the grantee and prior experience in management of multifaceted projects employing the use of one or more contractors will enhance the applicant's competitiveness.

Organizational Capability (10 points)

The ability to administer the initiative effectively should be clearly demonstrated in the application. Documentation should include organizational and/or staff experience in the subject areas described under the “Program Strategy” section, and successful experience in financial management of Federal grants and cooperative agreements. The application should also clearly describe how the grant will be managed as a free-standing operation within the applicant's organization.

Applicants must also describe and demonstrate professional competency to offer cutting edge technical assistance approaches and an organizational infrastructure that would support the technological and resource requirements of this program. Applicants may find it more cost effective to establish contractual relations for development of some of the required technical or specialized products.

Budget (10 points)

Applicants must provide a proposed budget that is detailed, reasonable, and cost effective for the activities to be undertaken. Competitiveness will be enhanced by those applicants that budget for tangible training resources for program participants to assist with daily operation of juvenile sanctioning programs (e.g., software, training manuals, technical assistance bulletins, and so forth) and for support of selected program sites.

Format

The application narrative must not exceed 30 pages in length (excluding forms, assurances, and appendixes) and must be submitted on 8½ by 11-inch paper, double spaced on one side of the paper, in a standard 12-point font. This is necessary to maintain fair and uniform standards among all applicants. If the narrative does not conform to these standards, OJJDP will deem the application ineligible for consideration.

Award Period

The project will be funded for 5 years in five 1-year budget periods. Funding after the first budget period depends on availability of funds, grantee performance, and other criteria established at the time of award.

Award Amount

Up to $1 million is available for the first year of the budget period.

Catalog of Federal Domestic Assistance (CFDA) Number

For this program, the CFDA number, which is required on Standard Form 424, Application for Federal Assistance, is 16.542. This form is included in the OJJDP Application Kit, which can be obtained by calling the Juvenile Justice Clearinghouse at 800-638-8736 or sending an e-mail request to puborder@ncjrs.org. The Application Kit is also available online at www.ojjdp.ncjrs.org/grants/about.html#kit.

Coordination of Federal Efforts

To encourage better coordination among Federal agencies in addressing State and local needs, the U.S. Department of Justice (DOJ) is requiring applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose.

The term “related efforts” is defined for these purposes as one of the following:

1. Efforts for the same purpose (i.e., the proposed award would supplement, expand, complement, or continue activities funded with other Federal grants).

2. Another phase or component of the same program or project (e.g., to implement a planning effort funded by other Federal funds or to provide a substance abuse treatment or education component within a criminal justice project).

3. Services of some kind (e.g., technical assistance, research, or evaluation) to the program or project described in the application.

Delivery Instructions

All application packages must be mailed or delivered to the Office of Juvenile Justice and Delinquency, c/o Juvenile Justice Resource Center, 2277 Research Boulevard, Mail Stop 2K, Rockville, MD 20850; 301-519-5535. Faxed or e-mailed applications will not be accepted.

Note: In the lower left-hand corner of the envelope, you must clearly write “Improving Juvenile Sanctioning: An Intensive Training and Technical Assistance Delivery Program.”

Due Date

Applicants are responsible for ensuring that an original and five copies of the application package are received by 5 p.m. ET on November 6, 2000.

Contact

For further information, contact Dennis D. Barron, Program Manager, Training and Technical Assistance Division, Office of Juvenile Justice and Delinquency Prevention, at 202-616-2942, or send an e-mail inquiry to barrond@ojp.usdoj.gov.

References

Coleman, P.K., Felton-Green, J., and Oliver, G. 1998 (October). Connecticut's Alternative Sanctions Program. Practitioner Perspectives. Washington, DC: U.S. Department of Justice, Office of Justice Programs, Bureau of Justice Assistance.

Howell, J.C., ed. 1995. Guide for Implementing the Comprehensive Strategy for Serious, Violent, and Chronic Juvenile Offenders. Washington, DC: U.S. Department of Justice, Office of Justice Programs, Office of Juvenile Justice and Delinquency Prevention.

Juvenile Accountability Incentive Block Grants (JAIBG), Public Law 105-19, Title III of H.R. 3, as passed by the House of Representatives on May 8, 1997.

McGarry, P. 1993. The Intermediate Sanctions Handbook: Experiences and Tools for Policymakers. Washington, DC; Center for Effective Public Policy.

National Council of Juvenile and Family Court Judges. 1995. Resource Guidelines: Improving Court Practice in Child Abuse and Neglect Cases. Reno, NV: National Council of Juvenile and Family Court Judges.

Office of Juvenile Justice and Delinquency Prevention National Training and Technical Assistance Center. 2000. Core Performance Standards for Delivery and Evaluation of Training and Technical Assistance. Fairfax, VA: National Training and Technical Assistance Center (www.NTTAC.org).

Wilson, J.J. and Howell, J.C. 1993. Comprehensive Strategy for Serious, Violent, and Chronic Juvenile Offenders. Washington, DC: U.S. Department of Justice, Office of Justice Programs, Office of Juvenile Justice and Delinquency Prevention.

Dated: August 30, 2000.
John J. Wilson,
Acting Administrator, Office of Juvenile Justice and Delinquency Prevention.

[FR Doc. 00-22787 Filed 9-5-00; 8:45 am]

BILLING CODE 4410-18-P